DEPARTMENT OF COMMERCE

National Oceanic and Atmospheric Administration

[RTID 0648-XE750]

North Pacific Fishery Management Council; Public Meeting

AGENCY: National Marine Fisheries Service (NMFS), National Oceanic and Atmospheric Administration (NOAA), Commerce.

ACTION: Notice of a public meeting.

SUMMARY: The Center of Independent Experts (CIE) review of the Eastern Bering Sea walleye pollock stock assessment will be held in May.

DATES: The meeting will be held on Tuesday, May 20, 2025, through May 23, 2025 inclusive, from 10 a.m. to 5 p.m., Pacific Time.

ADDRESSES: The meeting will be in-person only and will be held in the Traynor conference room at the Alaska Fishery Science Center, Sand Point Way NE, Building 4, Seattle, WA 98115. If you plan to attend, you need to notify Jim Ianelli (jim.ianelli@noaa.gov) at least two days prior to the meeting (or two weeks prior if you are a foreign national). You will also need a valid U.S. Identification Card.

Council address: North Pacific Fishery Management Council, 1007 W 3rd Ave., Anchorage, AK 99501-2252; telephone: (907) 271-2809.

FOR FURTHER INFORMATION CONTACT: Jim Ianelli, Alaska Fishery Science Center staff; phone: (206) 679-6674; email: jim.ianelli@noaa.gov.

SUPPLEMENTARY INFORMATION:

Agenda

Tuesday, May 20, 2025, Through Friday, May 23, 2025

The CIE will review the eastern Bering Sea walleye pollock stock assessment. The agenda is subject to change, and the latest version will be posted at https://apps-afsc.fisheries.noaa.gov/Plan_Team/2025_EBS_pollock_cie/ prior to the meeting, along with meeting materials.

Authority: 16 U.S.C. 1801 et seq.

Dated: March 13, 2025.
Rey Israel Marquez,
Acting Deputy Director, Office of Sustainable Fisheries, National Marine Fisheries Service.

[FR Doc. 2025-04423 Filed 3-17-25; 8:45 am]

BILLING CODE 3510-22-P